DEPARTMENT OF TRANSPORTATION

Federal Aviation Administration

Noise Compatibility Program for Dane County Regional Airport, Madison, Wisconsin

AGENCY: Federal Aviation Administration, DOT.

ACTION: Notice of receipt and request for review of the noise compatibility program

SUMMARY: The Federal Aviation Administration (FAA) announces the start of the FAA review of the noise compatibility program submitted for Dane County Regional Airport and the availability of this program for public review and comment. This program was submitted subsequent to a determination by FAA that associated noise exposure maps submitted for Dane County Regional Airport were in compliance with applicable requirements, effective December 21, 2024. The Dane County Regional Airport noise compatibility program will be approved or disapproved on or before July 12, 2026.

DATES: The effective date of the FAA of the start of its review of the associated noise compatibility program is January 13, 2026. The public comment period ends March 14, 2026.

FOR FURTHER INFORMATION CONTACT: Emma Lienau, Chicago Airports District Office, 2300 E. Devon Avenue, Des Plaines, Illinois 60018, Tel: 847-294-7551. Comments on the proposed noise compatibility program should be submitted to the above office.

SUPPLEMENTARY INFORMATION: This notice announces that the FAA is reviewing a proposed noise compatibility program (NCP) for Dane County Regional Airport which will be approved or disapproved on, or before, July 12, 2026. This notice also announces the availability of this program for public review and comment.

An airport operator who has submitted noise exposure maps (NEM) that are found by FAA to be in compliance with the requirements of title 49, chapter 475 of the United States Code (U.S.C.) (Aviation Safety and Noise Abatement Act, hereinafter referred to as “the Act”) and Title 14, Code of Federal Regulations (CFR) part 150 (14 CFR 150), promulgated pursuant to the Act, may submit a noise compatibility program for FAA approval which sets forth the measures the operator has taken or proposes to reduce existing non-compatible uses and prevent the introduction of additional non-compatible uses. The FAA previously determined that the NEMs for Dane County Regional Airport were in compliance with applicable requirements under 14 CFR 150, effective December 21, 2024 (Noise Compatibility Program for Dane County Regional Airport/Truax Field, Dane County, Wisconsin, Volume 89, Number 28, Federal Register, pages 9284-5, February 9, 2024).

The FAA formally received the NCP for Dane County Regional Airport on December 4, 2025. The airport operator has requested that the FAA review this material and that the noise mitigation measures, to be implemented jointly by the airport and surrounding communities, be approved as an NCP under Section 47504 of the Act. Preliminary review of the submitted materials indicates that it conforms to the requirements for the submittal of NCPs, but that further review will be necessary prior to approval or disapproval of the program for Dane County Regional Airport. The formal review period, limited to a maximum of 180 days, was initiated on January 13, 2026, and will be completed on or before July 12, 2026.

The FAA's detailed evaluation will be conducted under the provisions of 14 CFR 150.33 (https://www.ecfr.gov/current/title-14/chapter-I/subchapter-I/part-150/subpart-C/section-150.33). The primary considerations in the evaluation process are whether the proposed measures will reduce existing noncompatible uses and prevent or reduce the probability of additional noncompatible uses and whether the proposed measures will impose an undue burden on interstate and foreign commerce or reduce safety or adversely affect the safe and efficient use of airspaces.

Interested persons are invited to comment on the proposed program with specific references to these factors. All comments, other than those properly addressed to local land use authorities, will be considered by the FAA to the extent practicable. Copies of the proposed NCP for Dane County Regional Airport are available for examination online at https://msnairport.com/about/noise-abatement/part-150-study. Dane County Regional Airport has also made a hard copy of the document available for review at 4000 International Lane, Madison, Wisconsin 53704, Terminal Building, 2nd floor of the Airport Administration Office. Questions regarding this notice may be directed to the individual names above under the heading, FOR FURTHER INFORMATION CONTACT.

Issued in Des Plaines, Illinois on January 13, 2026.
James Gregory Keefer,
Acting Director, Airports Division, Great Lakes Region.

[FR Doc. 2026-00683 Filed 1-14-26; 8:45 am]

BILLING CODE 4910-13-P